FEDERAL AVIATION ADMINISTRATION

14 CFR Part 23

Airworthiness Standards: Normal, Utility, Acrobatic, and Commuter Category Airplanes

CFR Correction

In Title 14 of the Code of Federal Regulations, Parts 1 to 59, revised as of January 1, 2011, on page 351, in Appendix C to Part 23, Note (4) to the table is corrected to read as follows:

APPENDIX C TO PART 23—BASIC LANDING CONDITIONS

* * * * *

Note (4). L is defined in § 23.725(b).

* * * * *

[FR Doc. 2011-33531 Filed 12-28-11; 8:45 am]

BILLING CODE 1505-01-D